DEPARTMENT OF TRANSPORTATION

Federal Aviation Administration

[Policy Statement No. ANM-02-113-016]

Guidance for the Certification of Honeywell Primus Epic® Systems

AGENCY: Federal Aviation Administration (FAA), DOT.

ACTION: Notice of final policy.

SUMMARY: The Federal Aviation Administration (FAA) announces the availability of final policy that clarifies current FAA policy with respect to certification of Honeywell Primus Epic® Systems.

DATES: This final policy was issued by the Transport Airplane Directorate on May 30, 2003.

FOR FURTHER INFORMATION CONTACT: Connie Beane, Federal Aviation Administration, Transport Airplane Directorate, Transport Standards Staff, Standardization Branch, ANM-113, 1601 Lind Avenue SW., Renton, WA 98055-4056; telephone (425) 227-2796; fax (425) 227-1320; e-mail: connie.beane@faa.gov.

SUPPLEMENTARY INFORMATION:

Discussion of Comments

A notice of proposed policy was published in the Federal Register on August 30, 2002 (67 FR 55913). One (1) commenter responded to the request for comments.

Background

In the past several years, new aircraft designs have introduced new technologies. These technologies are being combined and used in novel ways and may represent significant challenges with respect to the acceptability of the flightcrew interfaces and aircraft airworthiness.

Honeywell Primus Epic® Systems are an avionics suite consisting of single or multiple racks/cabinets with circuit cards or modules that plug into the cabinets. Each rack/cabinet is configurable in that the number of modules can vary in each cabinet; the functions loaded into the cards can vary considerably, and there can be multiple racks/cabinets per aircraft. The functionality of the system is determined by the software loaded into the circuit cards. All the software on these circuit cards can be field-loaded, that is, loaded into the Honeywell Primus Epic® modules without removing the equipment from the aircraft.

The final policy establishes guidance for the certification of Honeywell Primus Epic® Systems.

The final policy, as well as the disposition of public comments received, is available on the Internet at the following address: http://www.faa.gov/certification/aircraft/anminfo/finalpaper.cfm. If you do not have access to the Internet, you can obtain a copy of the policy by contacting the person listed under FOR FURTHER INFORMATION CONTACT.

Issued in Renton, Washington, on May 30, 2003.
Ali Bahrami,
Acting Manager, Transport Airplane Directorate, Aircraft Certification Service.

[FR Doc. 03-14426 Filed 6-6-03; 8:45 am]

BILLING CODE 4910-13-P